DEPARTMENT OF ENERGY

Federal Energy Regulatory Commission

Sunshine Act Meeting Notice

September 11, 2008.

The following notice of meeting is published pursuant to section 3(a) of the government in the Sunshine Act (Pub. L. No. 94-409), 5 U.S.C. 552b:

Agency Holding Meeting: Federal Energy Regulatory Commission.

Date and Time: September 18, 2008, 10 a.m.

Place: Room 2C, 888 First Street, NE., Washington, DC 20426.

Status: Open.

Matters to be Considered: Agenda. *Note—Items listed on the agenda may be deleted without further notice.

Contact Person for More Information: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

938th—Meeting

Regular Meeting
[September 18, 2008, 10 a.m.]
Item No. | Docket No. | Company
Administrative
A-1 | AD02-1-000 | Agency Administrative Matters.
A-2 | AD02-7-000 | Customer Matters, Reliability, Security and Market Operations.
A-3 | AD06-3-000 | Energy Market Update.
Electric
E-1 | RM07-19-000, AD07-7-000 | Wholesale Competition in Regions with Organized Electric Markets.
E-2 | RM08-5-000 | Revisions to Forms, Statements and Reporting Requirements for Electric Utilities and Licensees.
E-3 | NJ08-3-000 | Southwestern Power Administration.
E-4 | NJ08-4-000 | East Kentucky Power Cooperative, Inc.
E-5 | OA08-27-000 | E.ON U.S. LLC.
E-6 | OA08-36-000 | Cleco Power LLC.
E-7 | OA08-37-000 | Southern Company Services, Inc.
E-8 | OA08-46-000, OA08-46-001 | South Carolina Electric & Gas Company.
E-9 | OA08-50-000, OA08-51-000 | Duke Energy Carolinas, LLC. Progress Energy Carolinas, Inc.
E-10 | OA08-59-000 | Entergy Services, Inc.
E-11 | ER08-394-001 | Midwest Independent Transmission System Operator, Inc.
E-12 | ER08-394-002 | Midwest Independent Transmission System Operator, Inc.
E-13 | ER08-1146-000 | Midwest Independent Transmission System Operator, Inc. and American Transmission Company LLC.
E-14 | ER08-1113-000 | California Independent System Operator Corporation.
E-15 | ER05-1410-000, EL05-148-000 | PJM Interconnection, L.L.C.
E-16 | EL08-67-000 | Maryland Public Service Commission, Delaware Public Service Commission, Pennsylvania Public Utility Commission, New Jersey Board of Public Utilities, Public Power Association of New Jersey, Maryland Office of the People's Counsel, Office of the People's Counsel of the District of Columbia, Southern Maryland Electric Cooperative, Inc., Blue Ridge Power Agency, Allegheny Electric Cooperative, Inc., Office of the Ohio Consumers' Counsel, New Jersey Department of the Public Advocate, Division of Rate Counsel, Pennsylvania Officer of Consumer Advocate, PJM Industrial Customer Coalition, American Forest and Paper Association, Portland Cement Association, Duquesne Light Company, and United States Department of Defense and other affected Federal Executive Agencies, v. PJM Interconnection, L.L.C.
E-17 | EL08-68-000 | WestConnect.
E-18 | OMITTED
E-19 | ER08-1144-000 | PJM Interconnection, L.L.C.
E-20 | ER06-456-014, ER06-954-010, ER06-1271-009, ER07-424-005 | PJM Interconnection, L.L.C.
E-21 | OMITTED
E-22 | ER02-2001-008 | Electric Quarterly Reports.
| ER06-1039-000 | Freedom Partners, LLC.
| ER03-752-000 | Solaro Energy Marketing Corporation, Inc.
| ER06-63-000 | Take Two, LLC.
E-23 | OMITTED
E-24 | RM01-8-011 | Revised Public Utility Filing Requirements for Electric Quarterly Reports.
E-25 | RM06-16-004 | Mandatory Reliability Standards for the Bulk-Power System.
| RP08-1-001 | North American Electric Reliability Corporation.
E-26 | RM06-22-000 | Mandatory Reliability Standards for Critical Infrastructure Protection.
E-27 | ER07-323-002 | Dynegy Power Marketing, Inc. and Dynegy Midwest Generation, Inc.
E-28 | ER08-229-001 | PJM Interconnection, L.L.C.
E-29 | EL00-66-005 | Louisiana Public Service Commission and the City of New Orleans v. Entergy Corporation.
| ER00-2854-006 | Entergy Services, Inc.
| EL95-33-007 | Louisiana Public Service Commission v. Entergy Services, Inc.
E-30 | ER96-2495-030 | AEP Power Marketing, Inc., AEP Service Corporation, AEP Energy Partners, Inc., CSW Energy Services, Inc. and Central and South West Services, Inc.
| ER97-4143-018 | American Electric Power Service Corporation.
| ER98-542-020 | Central and South West Services, Inc.
| ER98-2075-024 | CSW Energy Services, Inc.
| ER07-1130-001 | AEP Energy Partners, Inc.
E-31 | EL008-39-000 | New York Regional Interconnect, Inc.
Miscellaneous
M-1 | RM01-5-000 | Electronic Tariff Filings.
M-2 | OMITTED
Gas
G-1 | RM07-10-001 | Transparency Provisions of Section 23 of the Natural Gas Act.
G-2 | RM96-1-029 | Standards for Business Practices of Interstate Natural Gas Pipelines.
G-3 | RP08-272-001 | Transcontinental Gas Pipe Line Corporation.
Hydro
H-1 | P-2145-089 | Public Utility District No. 1 of Chelan County, Washington.
H-2 | P-1490-046 | Brazos River Authority.
H-3 | P-2192-028, P-2192-030 | Consolidated Water Power Company.
H-4 | P-1490-047 | Brazos River Authority.
H-5 | P-2602-023 | Duke Energy Carolinas, LLC.
H-6 | P-9300-018 | James Lichoulas Jr.
H-7 | P-1417-227 | Central Nebraska Public Power and Irrigation District.
Certificates
C-1 | CP06-365-000 | Bradwood Landing LLC.
| CP06-366-000, CP06-376-000, CP06-377-000 | NorthernStar Energy LLC.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-21639 Filed 9-15-08; 8:45 am]

BILLING CODE 6717-01-P